DEPARTMENT OF COMMERCE

National Oceanic and Atmospheric Administration

[I.D. 101703A]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held November 9 through 12, 2003.

ADDRESSES: These meetings will be held at the Palace Casino Resort, 158 Howard Avenue, Biloxi, MS; telephone: 800-725-2239.

Council address: Gulf of Mexico Fishery Management Council, 3018 U.S. Highway 301 North, Suite 1000, Tampa, FL 33619.

FOR FURTHER INFORMATION CONTACT: Wayne E. Swingle, Executive Director, Gulf of Mexico Fishery Management Council; telephone: 813-228-2815.

SUPPLEMENTARY INFORMATION:

Meeting Dates, Times, and Agendas

November 9, 2003

9-10 a.m.--(Partially Closed Session) Convene a joint meeting of the Personnel and Administrative Policy Committees to review past personnel issues.

10-11:30 a.m.--Convene the Administrative Policy Committee to review changes to the Administrative Handbook.

1-5:30 p.m.--Convene the Reef Fish Management Committee to review Secretarial Reef Fish Amendment 1 that contains alternatives for arresting overfishing of red grouper by the commercial and recreational fishermen. They will also review Draft Reef Fish Amendment 22 that contains alternatives for a red snapper rebuilding plan; and a Vermilion Snapper Regulatory Amendment that contains alternatives for arresting overfishing of that stock by commercial and recreational fishermen. Public hearings will be held on both of these amendments in December or January. The Committee will also review the yellowtail snapper assessment and will develop recommendations for consideration by full Council on Tuesday afternoon.

November 10, 2003

8:30-10 a.m.--Reconvene the Reef Fish Management Committee if necessary.

10-12 noon--Convene the Shrimp Management Committee to review Draft Shrimp Amendment 13/Environmental Assessment that includes alternatives for status criteria and benchmarks as well as a revised standardized bycatch reporting methodology: The Shrimp Committee will also review a Draft Options Paper for Shrimp Amendment 14/Supplemental and Environmental Impact Statement that includes alternatives to improve the bycatch reporting methodology, further reduce bycatch, and for a limited access program and vessel monitoring system.

1:30-2:30 p.m.--Convene the Migratory Species Management Committee to review information on bycatch of sharks in the menhaden fishery.

2:30-4 p.m.--Convene the Habitat Protection Committee to review and revise a Council policy for mariculture developed by the Gulf States Marine Fisheries Commission.

4-5:30 p.m.--Convene the Data Collection Committee to hear a report on the Fishery Information System program implemented by the states for collection of fishery statistics from recreational and commercial fishermen. The Committee will also discuss a study proposal to collect some of these statistics, data quality assurance and control measures, and separation of guide boats from charter and headboats in the statistical program.

November 11, 2003

8:30 a.m.--Convene Council.

8:45 a.m.--Appointment of Committee members.

9-9:45 a.m.--Receive a presentation on Coral Research on Middle Grounds.

9:45-12 noon--Receive public testimony on Secretarial Reef Fish Amendment 1.

1:30-3:30 p.m.--Receive the Reef Fish Management Committee report.

3:30-5 p.m.--Receive the Administrative Policy Committee report.

5-5:30 p.m.--(Closed Session) Receive the Personnel Committee report.

November 12, 2003

8:30-8:45 a.m.--Receive the Shrimp Management Committee report.

8:45-9 a.m.--Receive the Habitat Protection Committee report.

9-9:15 a.m.--Receive the Migratory Special Management Committee report.

9:15-9:30 a.m.--Receive the Data Collection Committee report.

9:30-9:45 a.m.--Receive a report of the Council Orientation Session.

9:45-10 a.m.--Receive the International Commission for the Conservation of Atlantic Tunas Advisory Committee report.

10-10:15 a.m.--Receive a report of the NMFS Highly Migratory Species Advisory Panel meeting.

10:15-10:30 a.m.--Receive a report of the Texas Shrimp Association Meeting.

10:30-11 a.m.--Receive Enforcement Reports.

11-11:15 a.m.--Receive the NMFS Regional Administrator's Report.

11:15-11:45 a.m.--Receive Director's Reports.

11:45-12 noon--Other Business

Although non-emergency issues not contained in the agenda may come before the Council for discussion, in accordance with the Magnuson-Stevens Fishery Conservation and Management Act (Magnuson-Stevens Act), those issues may not be the subject of formal Council action during this meeting. Council action will be restricted to those issues specifically identified in this notice and any issues arising after publication of this notice that require emergency action under section 305(c) of the Magnuson-Stevens Act, provided the public has been notified of the Council's intent to take final action to address the emergency. A copy of the Committee schedule and agenda can be obtained by calling 813-228-2815.

Special Accommodations

These meetings are physically accessible to people with disabilities. Requests for sign language interpretation or other auxiliary aids should be directed to Anne Alford at the Council (see ADDRESSES) by November 3, 2003.

Dated: October 17, 2003.
Richard W. Surdi,
Acting Director, Office of Sustainable Fisheries, National Marine Fisheries Service.

[FR Doc. 03-26801 Filed 10-22-03; 8:45 am]

BILLING CODE 3510-22-S